DEPARTMENT OF STATE

[Public Notice 4777]

Shipping Coordinating Committee; Notice of Meeting

The U.S. Shipping Coordinating Committee (SHC) will conduct an open meeting at 10 a.m. on Wednesday, 20 October 2004 in Room 4342 at the Department of Transportation, 400 7th & D Streets, SW., Washington, DC 20590-0001. The purpose of this meeting is to prepare for the Eighty-Ninth Session of the International Maritime Organization's (IMO) Legal Committee (LEG 89) scheduled from 25-29 October 2004.

The provisional LEG 89 agenda calls for the Legal Committee to review the Convention for the Suppression of Unlawful Acts against the Safety of Maritime Navigation, 1988, and its Protocol of 1988 relating to Fixed Platforms Located on the Continental Shelf (SUA Convention and Protocol). Also the Committee will examine the draft Wreck Removal Convention. To be addressed as well is the Provision of Financial Security which includes a progress report on the work of the Joint IMO/ILO Ad Hoc Expert Working Group on Liability and Compensation regarding claims for Death, Personal Injury and Abandonment of Seafarers; and includes follow-up resolutions adopted by the International Conference on the Revision of the Athens Convention relating to the Carriage of Passengers and their Luggage by Sea, 1974. The Legal Committee will examine places of refuge, measures to protect crews and passengers against crimes committed on vessels, fair treatment of seafarers, as well as monitoring of the implementation of the HNS Convention, matters arising from the ninety-second session of the Council. Finally the committee will review technical cooperation: subprogramme for maritime legislation, review the status of Conventions and other treaty instruments adopted as a result of the work of the Legal Committee, in addition to allotting time to address any other issues that may arise on the Legal Committee's work program.

Members of the public are invited to attend the SHC meeting up to the seating capacity of the room. To facilitate the building security process, those who plan to attend should call or send an e-mail two days before the meeting. Upon request, participating by phone may be an option. For further information please contact Captain William Baumgartner or Lieutenant Martha Rodriguez, at U.S. Coast Guard, Office of Maritime and International Law (G-LMI), 2100 Second Street, S.W., Washington, D.C. 20593-0001; e-mail mrodriguez@comdt.uscg.mil, telephone (202) 267-1527; fax (202) 267-4496.

Dated: July 21, 2004.
Clay Diamond,
Executive Secretary, Shipping Coordinating Committee, Department of State.

[FR Doc. 04-17314 Filed 7-28-04; 8:45 am]

BILLING CODE 4710-09-P